ENVIRONMENTAL PROTECTION AGENCY

[ER-FRL-8592-4]

Environmental Impact Statements; Notice of Availability

Responsible Agency: Office of Federal Activities, General Information (202) 564-1399 or http://www.epa.gov/compliance/nepa/.

Weekly receipt of Environmental Impact Statements

Filed 04/06/2009 through 04/10/2009

Pursuant to 40 CFR 1506.9

EIS No. 20090112, Draft EIS, NPS, 00, Long Walk National Historic Trail Feasibility Study, To Evaluate the Suitability and Feasibility of Designating the Routes, Implementation, Apache, Coconino, Navajo Counties, AZ; Bernalillo, Cibola, De Baca, Guadalupe, Lincoln, McKinley, Mora, Otero, Santa Fe, Sandoval, Torrance, Valencia Counties, NM, Comment Period Ends: 06/16/2009, Contact: Sharon Brown, 505-988-6717.

EIS No. 20090113, Draft EIS, AFS, 00, Ashley National Forest Motorized Travel Plan, To Improve Management of Public Summer Motorized Use by Designating Roads and Motorized Trails and Limiting Dispersed Camping to Areas, Duchesne, Daggett, Uintah Counties, Utah and Sweetwater County, Wyoming, Comment Period Ends: 06/01/2009, Contact: Lesley Tullis, 435-781-5137.

EIS No. 20090114, Third Final Supplement, COE, CA, Port of Los Angeles Channel Deepening Project, To Dispose of Approximately 3.0 Million Cubic Yards of Dredge Material Required to Complete the Channel Deepening Project and to Beneficially Reuse the Dredge Material with the Port of Los Angeles, Los Angeles County, CA, Wait Period Ends: 05/18/2009, Contact: Joy Jaiswal, 213-452-3851.

EIS No. 20090115, Draft EIS, SFW, 00, Western Snowy Plover Habitat Conservation Plan, Proposed Issuance of an Incidental Take Permit, Oregon Parks and Recreation Department, Oregon Coast, OR, CA, WAS, Comment Period Ends: 06/16/2009, Contact: Laura Todd, 541-867-4558.

EIS No. 20090116, Final EIS, AFS, WY, Spruce Gulch Bark Beetle and Fuels Reduction Project, Proposes to Implement Bark Beetle Related Salvage and Suppression Vegetative Treatments and Hazardous Fuels Abatement Treatments, Laramie Ranger District, Medicine Bow-Routt National Forests, Albany and Carbon Counties, WY, Wait Period Ends: 05/18/2009, Contact: Melissa Martin, 307-745-2371.

Amended Notices

EIS No. 20090100, Draft EIS, BLM, UT, Withdrawn—Mona to Oquirrh Transmission Corridor Project, Construction, Operation, Maintenance and Decommissioning a Double-Circuit 500/345 Kilovolt (Kv) Transmission Line, Right-of-Way Grant, Rocky Mountain Power, Juab, Salt Lake, Tooele and Utah Counties, UT, Comment Period Ends: 07/08/2009, Contact: Megan Crandall, 801-539-4061.

Revision to FR Notice Published 04/10/2009: Officially Withdrawn by the Preparing Agency.

EIS No. 20090104, Draft EIS, BIA, NY, Withdrawn—Cayuga Indian Nation of New York Conveyance of Land into Trust Project, Approval of a 125+ Acre Fee-to-Trust Property Transfer of Seven Separate Parcel located in the Village of Union Springs and Town of Springport and Montequma in Cayuga County and the Town of Seneca Falls in Seneca County, NY, Comment Period Ends: 05/26/2009, Contact: Kurt G. Chandler, 615-564-6832.

Revision to FR Notice Published 04/10/2009: Officially Withdrawn by the Preparing Agency.

Dated: April 14, 2009.
Ken Mittelholtz,
Environmental Protection Specialist, NEPA Compliance Division, Office of Federal Activities.

[FR Doc. E9-8857 Filed 4-16-09; 8:45 am]

BILLING CODE 6560-50-P